DEPARTMENT OF JUSTICE

Notice of Lodging of Proposed Consent Decree Under the Clean Water Act

On February 9, 2016, the Department of Justice lodged a proposed Consent Decree with the United States District Court for the District of Montana, Missoula Division, in a lawsuit entitled United States v. Michael's Convenience Stores, Inc., Civil Action No. 9:16-cv-00020-DWM.

In its Complaint in this civil action, the United States alleges that Michael's Convenience Stores, Inc. is liable for penalties under the Federal Water Pollution Control Act, also known as the Clean Water Act (“CWA”), 33 U.S.C. 1251-1387, as amended by the Oil Pollution Act of 1990 (“OPA”). Specifically, the United States asserts that Michael's is responsible for the unauthorized discharge of harmful quantities of pollutants (gasoline) on or about May through July, 2007 from underground storage tanks at its Kalispell, Montana store. Gasoline from Michael's underground tanks migrated into waters of the United States (Ashley and Spring Creeks) and their adjoining shorelines in violation of 33 U.S.C. 1321(b)(3) and (4).

The proposed Consent Decree resolves all civil claims alleged in the Complaint. The proposed Decree requires Michael's to pay a $55,000.00 civil penalty in 2 installments, 30 days and 365 days after the effective date of the proposed Decree.

The publication of this notice opens a period for public comment on the proposed Consent Decree. Comments should be addressed to the Assistant Attorney General, Environment and Natural Resources Division, Environmental Enforcement Section, and should refer to United States v. Michael's Convenience Stores, Inc., D.J. Ref. No. 90-5-1-1-09620. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $6.00 (25 cents per page reproduction cost) for the proposed Consent Decree payable to the United States Treasury.

Robert Brook,
Assistant Section Chief, Environmental Enforcement Section, Environment and Natural Resources Division.

[FR Doc. 2016-03189 Filed 2-16-16; 8:45 am]

BILLING CODE 4410-15-P